DEPARTMENT OF COMMERCE

International Trade Administration

[A-427-001]

Sorbitol From France; Final Results of Expedited Sunset Review of the Antidumping Order

AGENCY: Import Administration, International Trade Administration, Department of Commerce.

ACTION: Notice of Extension of Time Limit for the Final Results of Expedited Sunset Review: Sorbitol from France.

SUMMARY: The Department of Commerce (“the Department”) is extending the time limit for its final results in the expedited sunset review of the antidumping order on sorbitol from France.¹ The Department intends to issue final results of this sunset review on or about June 30, 2004.

¹ The Department normally will issue its final results in an expedited sunset review not later than 120 days after the date of publication in the Federal Register of the notice of initiation. However, if the Secretary determines that a sunset review is extraordinarily complicated under section 751(c)(5)(C) of the Act, the Secretary may extend the period for issuing final results by not more than 90 days. See section 751(c)(5)(B) of the Act.

EFFECTIVE DATE: June 22, 2004.

FOR FURTHER INFORMATION CONTACT: Hilary E. Sadler, Esq., Office of Policy, Import Administration, International Trade Administration, U.S. Department of Commerce, 14th Street & Constitution Avenue, NW., Washington, DC 20230; telephone: (202) 482-4340.

Extension of Final Determination

On February 2, 2004, the Department initiated a sunset review of the antidumping order on Sorbitol from France. See Initiation of Five-Year (Sunset) Reviews, 69 FR 4921 (February 2, 2004). The Department determined that it would conduct an expedited (120 day) sunset review of this order based on responses from the domestic and respondent interested parties to the notice of initiation. The Department's final results of this review were scheduled for June 1, 2004. However, issues have arisen over the appropriate magnitude of the dumping margin likely to prevail for certain companies subject to the sunset review. Because of these complex issues, the Department will extend the deadline. Thus, the Department intends to issue the final results not later than June 30, 2004 in accordance with section 751(c)(5)(B).

Dated: June 15, 2004.
James J. Jochum,
Assistant Secretary for Import Administration.

[FR Doc. 04-13990 Filed 6-21-04; 8:45 am]

BILLING CODE 3510-DS-P